DEPARTMENT OF THE INTERIOR

Bureau of Land Management

[LLNV952000 L14200000.BJ0000 241A; 10-08807; MO# 4500012873; TAS: 14X1109]

Filing of Plats of Survey; Nevada

AGENCY: Bureau of Land Management, Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Plats of Survey of the following described lands were officially filed at the Nevada State Office, Reno, Nevada, on February 4, 2010:

The plat, in two (2) sheets, representing the dependent resurvey of a portion of the east boundary and a portion of the subdivisional lines, the subdivision of section 12 and metes-and-bounds surveys of the easterly and westerly right-of-way lines of the Nevada Northern Railway through section 1 and a portion of section 12, Township 18 North, Range 63 East, Mount Diablo Meridian, Nevada, under Group No. 840, was accepted February 2, 2010.

The plat, in five (5) sheets, representing the dependent resurvey of portions of the south and north boundaries and a portion of the subdivisional lines, metes-and-bounds surveys of Tracts 37 and 38, and metes-and-bounds surveys of the easterly and westerly right-of-way lines of the Nevada Northern Railway through sections 1, 12, 13, 24, 25 and 36, Township 19 North, Range 63 East, Mount Diablo Meridian, Nevada, under Group No. 840, was accepted February 2, 2010.

These surveys were executed to meet certain administrative needs of the Bureau of Land Management.

2. The Plat of Survey of the following described lands was officially filed at the Nevada State Office, Reno, Nevada, on February 19, 2010:

The plat, in six (6) sheets, representing the dependent resurvey of the Fourth Standard Parallel North, through a portion of Range 63 East, a portion of the east boundary and a portion of the subdivisional lines, the subdivision of sections 24 and 25, and metes-and-bounds surveys of portions of the easterly and westerly right-of-way lines of the Nevada Northern Railway, Township 20 North, Range 63 East, Mount Diablo Meridian, Nevada, under Group No. 856, was accepted February 18, 2010.

This survey was executed to meet certain administrative needs of the Bureau of Land Management.

3. The above-listed surveys are now the basic record for describing the lands for all authorized purposes. These surveys have been placed in the open files in the BLM Nevada State Office and are available to the public as a matter of information. Copies of the surveys and related field notes may be furnished to the public upon payment of the appropriate fees.

Dated: April 7, 2010.
David D. Morlan,
Chief Cadastral Surveyor, Nevada.

[FR Doc. 2010-8602 Filed 4-14-10; 8:45 am]

BILLING CODE 4310-HC-P